DEPARTMENT OF ENERGY

Federal Energy Regulatory Commission

Notice of Draft License Application and Preliminary Draft Environmental Assessment (PDEA) and Request for Preliminary Terms and Conditions

June 5, 2001.

Take notice that the following hydroelectric application has been filed with the Commission and is available for public inspection:

a. Type of Application: Original Minor License.

b. Project No.: 11659-001.

c. Applicant: Gustavus Electric Company (GEC).

d. Name of Project: Falls Creek Hydroelectric Project.

e. Location: On Falls Creek (also knows as the Kahtaheena River), in southeastern Alaska near the town of Gustavus. The project would be located on lands currently located within the boundary of Glacier Bay National Park and administered by the National Park Service. The Glacier Bay National Park Boundary Adjustment Act of 1998 (Act) provides that if a license is issued for the project, the minimum amount of Glacier Bay National Park land necessary to construct and operate the hydroelectric project would be transferred, as part of a land exchange, to the State of Alaska. The Act also authorizes the submittal of a license application for this project to the Federal Energy Regulatory Commission.

f. Applicant Contact: Richard Levitt, Gustavus Electric Company, P.O. Box 102, Gustavus, Alaska 99826; (907) 697-2299.

g. FERC Contact: Bob Easton, Federal Energy Regulatory Commission, 888 First Street NE., Washington, DC 20426; (202) 219-2782; Email: robert.easton@ferc.fed.us

h. GEC mailed a copy of the PDEA and draft application to interested parties on May 21, 2001. The Commission received a copy of the PDEA and draft application on May 30, 2001.

i. With this notice we are soliciting preliminary terms, conditions, and recommendations on the PDEA and draft license application. All comments on the PDEA and draft license application should be sent to the addresses above in items (f) and (g). All comments must include the project name and number, and bear the heading “Preliminary Comments,” “Preliminary Recommendations,” “Preliminary Terms and Conditions,” or “Preliminary Prescriptions.” Any party interested in commenting must do so before August 3, 2001. Comments, protests and interventions may be filed electronically via the internet in lieu of paper. See, 18 CFR 385.2001(a)(1)(iii) and the instructions on the Commission's web site at http://www.ferc.fed.us/efi/doorbell.htm.

j. With this notice, we are initiating consultation with the STATE HISTORIC PRESERVATION OFFICER (SHPO), as required by Section 106, National Historic Preservation Act, and the regulations of the Advisory Council on Historic Preservation, 36 CFR 800.4.

k. Locations of the application: Copies of the application can be obtained from the applicant contact identified in item (f) above. A copy of the application is available for inspection and reproduction at the Commission's Public Reference Room, located at 888 First Street, N.E., Room 2A, Washington, DC 20426, or by calling (202) 208-0371. The application may be viewed on the web at http://www.ferc.fed.us/online/rims.htm. (Call (202) 208-2222 for assistance).

David P. Boergers,
Secretary.

[FR Doc. 01-14550 Filed 6-8-01; 8:45 am]

BILLING CODE 6717-01-M